DEPARTMENT OF THE INTERIOR

Bureau of Land Management

[LLAZ956000.L14200000.BJ0000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The plat representing the amended protraction diagram of partially surveyed Township 30 North, Range 6 East, accepted April 5, 2011, and officially filed April 8, 2011, for Group 1059, Arizona.

This plat was prepared at the request of the Bureau of Indian Affairs, Navajo Regional Office.

The plat representing the amended protraction diagram of partially surveyed Township 31 North, Range 6 East, accepted April 5, 2011, and officially filed April 8, 2011, for Group 1059, Arizona.

This plat was prepared at the request of the Bureau of Indian Affairs, Navajo Regional Office.

The plat representing the amended protraction diagram of partially surveyed Township 32 North, Range 6 East, accepted April 7, 2011, and officially filed April 8, 2011, for Group 1059, Arizona.

This plat was prepared at the request of the Bureau of Indian Affairs, Navajo Regional Office.

The plat representing the amended protraction diagram of Township 32½ North, Range 6 East, accepted April 11, 2011, and officially filed April 13, 2011, for Group 1059, Arizona.

This plat was prepared at the request of the Bureau of Indian Affairs, Navajo Regional Office.

The plat representing the amended protraction diagram of Township 33 North, Range 6 East, accepted April 11, 2011, and officially filed April 13, 2011, for Group 1059, Arizona.

This plat was prepared at the request of the Bureau of Indian Affairs, Navajo Regional Office.

The plat representing the amended protraction diagram of Township 30 North, Range 7 East, accepted April 5, 2011, and officially filed April 8, 2011, for Group 1059, Arizona.

This plat was prepared at the request of the Bureau of Indian Affairs, Navajo Regional Office.

The plat representing the amended protraction diagram of Township 31 North, Range 7 East, accepted April 7, 2011, and officially filed April 8, 2011, for Group 1059, Arizona.

This plat was prepared at the request of the Bureau of Indian Affairs, Navajo Regional Office.

The plat representing amended protraction diagram of Township 32 North, Range 7 East, accepted April 7, 2011, and officially filed April 8, 2011, for Group 1059, Arizona.

This plat was prepared at the request of the Bureau of Indian Affairs, Navajo Regional Office.

The plat representing the amended protraction diagram of Township 32½ North, Range 7 East, accepted April 11, 2011, and officially filed April 13, 2011, for Group 1059, Arizona.

This plat was prepared at the request of the Bureau of Indian Affairs, Navajo Regional Office.

The plat representing the amended protraction diagram of Township 33 North, Range 7 East, accepted April 11, 2011, and officially filed April 13, 2011, for Group 1059, Arizona.

This plat was prepared at the request of the Bureau of Indian Affairs, Navajo Regional Office.

The plat (in 2 sheets) representing the establishment of the southwest and northwest township corners and an electronic control monument, Township 36 North, Range 7 East, accepted March 29, 2011, and officially filed March 31, 2011, for Group 1080, Arizona.

This plat was prepared at the request of the Bureau of Indian Affairs, Navajo Regional Office.

The plat representing the amended protraction diagram of Township 36 North, Range 7 East, accepted April 20, 2011, and officially filed April 21, 2011, for Group 1080, Arizona.

This plat was prepared at the request of the Bureau of Indian Affairs, Navajo Regional Office.

The plat (in 2 sheets) representing the establishment of the southeast, southwest, northeast and northwest township corners and an electronic control monument, Township 37 North, Range 7 East, accepted March 29, 2011, and officially filed March 31, 2011, for Group 1080, Arizona.

This plat was prepared at the request of the Bureau of Indian Affairs, Navajo Regional Office.

The plat representing the amended protraction diagram of Township 37 North, Range 7 East, accepted April 20, 2011, and officially filed April 21, 2011, for Group 1080, Arizona.

This plat was prepared at the request of the Bureau of Indian Affairs, Navajo Regional Office.

The plat representing the amended protraction diagram of Township 30 North, Range 8 East, accepted April 5, 2011, and officially filed April 8, 2011, for Group 1059, Arizona.

This plat was prepared at the request of the Bureau of Indian Affairs, Navajo Regional Office.

The plat representing the amended protraction diagram of Township 31 North, Range 8 East, accepted April 7, 2011, and officially filed April 8, 2011, for Group 1059, Arizona.

This plat was prepared at the request of the Bureau of Indian Affairs, Navajo Regional Office.

The plat representing the amended protraction diagram of Township 32 North, Range 8 East, accepted April 11, 2011, and officially filed April 13, 2011, for Group 1059, Arizona.

This plat was prepared at the request of the Bureau of Indian Affairs, Navajo Regional Office.

The plat representing the amended protraction diagram of Township 32½ North, Range 8 East, accepted April 11, 2011, and officially filed April 13, 2011, for Group 1059, Arizona.

This plat was prepared at the request of the Bureau of Indian Affairs, Navajo Regional Office.

The plat representing the amended protraction diagram of Township 33 North, Range 8 East, accepted March 7, 2011, and officially filed March 11, 2011, for Group 1059, Arizona.

This plat was prepared at the request of the Bureau of Indian Affairs, Navajo Regional Office.

The plat representing the dependent resurvey of the Second Guide Meridian East (east boundary) and the south boundary and the survey of the west and north boundaries and the subdivisional lines, Township 34 North, Range 8 East, accepted February 23, 2011, and officially filed February 25, 2011, for Group 1080, Arizona.

This plat was prepared at the request of the Bureau of Indian Affairs, Navajo Regional Office.

The plat representing the dependent resurvey of the Second Guide Meridian East (east boundary) and the survey of the west and north boundaries and the subdivisional lines, Township 35 North, Range 8 East, accepted March 2, 2011, and officially filed March 4, 2011, for Group 1080, Arizona.

This plat was prepared at the request of the Bureau of Indian Affairs, Navajo Regional Office.

The plat representing the establishment of the northwest township corner and an electronic control monument, Township 36 North, Range 8 East, accepted March 29, 2011, and officially filed March 31, 2011, for Group 1080, Arizona.

This plat was prepared at the request of the Bureau of Indian Affairs, Navajo Regional Office.

The plat representing the amended protraction diagram of Township 36 North, Range 8 East, accepted April 20, 2011, and officially filed April 21, 2011, for Group 1080, Arizona.

This plat was prepared at the request of the Bureau of Indian Affairs, Navajo Regional Office.

The plat representing the amended protraction diagram of Township 30 North, Range 9 East, accepted April 5, 2011, and officially filed April 8, 2011, for Group 1059, Arizona.

This plat was prepared at the request of the Bureau of Indian Affairs, Navajo Regional Office.

The plat representing the amended protraction diagram of Township 31 North, Range 9 East, accepted April 7, 2011, and officially filed April 8, 2011, for Group 1059, Arizona.

This plat was prepared at the request of the Bureau of Indian Affairs, Navajo Regional Office.

The plat representing the amended protraction diagram of Township 32 North, Range 9 East, accepted March 7, 2011, and officially filed March 11, 2011, for Group 1059, Arizona.

This plat was prepared at the request of the Bureau of Indian Affairs, Navajo Regional Office.

The plat representing the amended protraction diagram of Township 33 North, Range 9 East, accepted April 11, 2011, and officially filed April 13, 2011, for Group 1059, Arizona.

This plat was prepared at the request of the Bureau of Indian Affairs, Navajo Regional Office.

The plat representing the amended protraction diagram of Township 33½ North, Range 9 East, accepted April 11, 2011, and officially filed April 13, 2011, for Group 1059, Arizona.

This plat was prepared at the request of the Bureau of Indian Affairs, Navajo Regional Office.

The plat representing the amended protraction diagram of Township 34 North, Range 9 East, accepted April 13, 2011, and officially filed April 15, 2011, for Group 1059, Arizona.

This plat was prepared at the request of the Bureau of Indian Affairs, Navajo Regional Office.

The plat representing the amended protraction diagram of Township 35 North, Range 9 East, accepted April 20, 2011, and officially filed April 21, 2011, for Group 1059, Arizona.

This plat was prepared at the request of the Bureau of Indian Affairs, Navajo Regional Office.

The plat representing the amended protraction diagram of Township 36 North, Range 9 East, accepted April 20, 2011, and officially filed April 21, 2011, for Group 1059, Arizona.

This plat was prepared at the request of the Bureau of Indian Affairs, Navajo Regional Office.

The plat representing the amended protraction diagram of Township 33½ North, Range 10 East, accepted April 13, 2011, and officially filed April 15, 2011, for Group 1059, Arizona.

This plat was prepared at the request of the Bureau of Indian Affairs, Navajo Regional Office.

The plat representing the amended protraction diagram of Township 34 North, Range 10 East accepted April 20, 2011, and officially filed April 21, 2011, for Group 1059, Arizona.

This plat was prepared at the request of the Bureau of Indian Affairs, Navajo Regional Office.

The plat representing the amended protraction diagram of Township 35 North, Range 10 East, accepted April 20, 2011, and officially filed April 21, 2011, for Group 1059, Arizona.

This plat was prepared at the request of the Bureau of Indian Affairs, Navajo Regional Office.

The plat representing the amended protraction diagram of Township 36 North, Range 10 East, accepted April 20, 2011, and officially filed April 21, 2011, for Group 1059, Arizona.

This plat was prepared at the request of the Bureau of Indian Affairs, Navajo Regional Office.

The plat representing the amended protraction diagram of Township 33 North, Range 11 East, accepted April 13, 2011, and officially filed April 15, 2011, for Group 1059, Arizona.

This plat was prepared at the request of the Bureau of Indian Affairs, Navajo Regional Office.

The plat representing amended protraction diagram of Township 33½ North, Range 11 East, accepted April 13, 2011, and officially filed April 15, 2011, for Group 1059, Arizona.

This plat was prepared at the request of the Bureau of Indian Affairs, Navajo Regional Office.

The plat representing the amended protraction diagram of Township 34 North, Range 11 East, accepted April 20, 2011, and officially filed April 21, 2011, for Group 1059, Arizona.

This plat was prepared at the request of the Bureau of Indian Affairs, Navajo Regional Office.

The plat representing the amended protraction diagram of Township 35 North, Range 11 East, accepted April 20, 2011, and officially filed April 21, 2011, for Group 1059, Arizona.

This plat was prepared at the request of the Bureau of Indian Affairs, Navajo Regional Office.

The plat representing the amended protraction diagram of Township 36 North, Range 11 East, accepted April 20, 2011, and officially filed April 21, 2011, for Group 1059, Arizona.

This plat was prepared at the request of the Bureau of Indian Affairs, Navajo Regional Office.

The plat representing the amended protraction diagram of Township 33 North, Range 12 East, accepted April 13, 2011, and officially filed April 15, 2011, for Group 1059, Arizona.

This plat was prepared at the request of the Bureau of Indian Affairs, Navajo Regional Office.

The plat representing the amended protraction diagram of Township 33½ North, Range 12 East, accepted April 13, 2011, and officially filed April 15, 2011, for Group 1059, Arizona.

This plat was prepared at the request of the Bureau of Indian Affairs, Navajo Regional Office.

The plat representing the amended protraction diagram of Township 34 North, Range 12 East, accepted April 20, 2011, and officially filed April 21, 2011, for Group 1059, Arizona.

This plat was prepared at the request of the Bureau of Indian Affairs, Navajo Regional Office.

The plat representing the dependent amended protraction diagram of Township 35 North, Range 12 East, accepted April 20, 2011, and officially filed April 21, 2011, for Group 1059, Arizona.

This plat was prepared at the request of the Bureau of Indian Affairs, Navajo Regional Office.

The plat representing the amended protraction diagram of Township 36 North, Range 12 East, accepted April 20, 2011, and officially filed April 21, 2011, for Group 1059, Arizona.

This plat was prepared at the request of the Bureau of Indian Affairs, Navajo Regional Office.

The plat representing the amended protraction diagram of Township 33 North, Range 12½ East, accepted March 7, 2011, and officially filed March 11, 2011, for Group 1059, Arizona.

This plat was prepared at the request of the Bureau of Indian Affairs, Navajo Regional Office.

The plat representing the amended protraction diagram of Township 33½ North, Range 12½ East, accepted April 13, 2011, and officially filed April 15, 2011, for Group 1059, Arizona.

This plat was prepared at the request of the Bureau of Indian Affairs, Navajo Regional Office.

The plat representing the amended protraction diagram of Township 34 North, Range 12½ East, accepted April 20, 2011, and officially filed April 21, 2011, for Group 1059, Arizona.

This plat was prepared at the request of the Bureau of Indian Affairs, Navajo Regional Office.

The plat representing the amended protraction diagram of Township 35 North, Range 12½ East, accepted April 20, 2011, and officially filed April 21, 2011, for Group 1059, Arizona.

This plat was prepared at the request of the Bureau of Indian Affairs, Navajo Regional Office.

The plat representing the amended protraction diagram of Township 36 North, Range 12½ East, accepted April 20, 2011, and officially filed April 21, 2011, for Group 1059, Arizona.

This plat was prepared at the request of the Bureau of Indian Affairs, Navajo Regional Office.

The plat representing the survey of the south and north boundaries, a Sectional Guide Meridian and the subdivisional lines and the subdivision of certain sections, Township 22 North, Range 14 East, accepted April 12, 2011, and officially filed April 14, 2011, for Group 1070, Arizona.

This plat was prepared at the request of the Bureau of Indian Affairs, Navajo Regional Office.

The plat representing the dependent resurvey of the subdivisional lines and the subdivision of section 14,Township 18 North, Range 19 East, accepted February 7, 2011, and officially filed February 9, 2011, for Group 1082, Arizona.

This plat was prepared at the request of the Bureau of Land Management.

The plat representing the survey of a portion of the Tenth Standard Parallel North (north boundary), the south and west boundaries and the subdivisional lines, and the subdivision of certain sections, Township 40 North, Range 19 East, accepted June 2, 2011, and officially filed June 7, 2011, for Group 1077, Arizona.

This plat was prepared at the request of the Bureau of Indian Affairs, Navajo Regional Office.

The plat representing the dependent resurvey of the Sixth Standard Parallel North through Range 21 East and a portion of range 20 east (north boundary), the Fifth Guide Meridian East, through Township 24 North (west boundary), the east boundary and the subdivisional lines, and the subdivision of certain sections, Township 24 North, Range 21 East, accepted June 6, 2011, and officially filed June 8, 2011, for Group 1068, Arizona.

This plat was prepared at the request of the Bureau of Indian Affairs, Navajo Regional Office.

The plat representing the dependent resurvey of a portion of the subdivisional lines, the subdivision of section 34 and a metes-and-bounds survey in section 34, Township 6 North, Range 29 East, accepted April 5, 2011, and officially filed April 7, 2011, for Group 1086, Arizona.

This plat was prepared at the request of the United States Forest Service.

The plat representing the dependent resurvey of the Tenth Standard Parallel North (south boundary) and the north boundary, and the survey of the subdivisional lines and the subdivision of certain sections, Township 41 North, Range 29 East, accepted February 17, 2011, and officially filed February 23, 2011, for Group 1078, Arizona.

This plat was prepared at the request of the Bureau of Indian Affairs, Navajo Regional Office.

The plat representing the metes-and-bounds survey of a portion of the Mount Tipton Wilderness Area Boundary in section 17, Township 25 North, Range 18 West, accepted April 26, 2011, and officially filed April 28, 2011, for Group 1073, Arizona.

This plat was prepared at the request of the Bureau of Land Management.

The plat representing the survey of a portion of the south boundary, Township 10 South, Range 3 West, accepted March 21, 2011, and officially filed March 23, 2011, for Group 1091, Arizona.

This plat was prepared at the request of the Bureau of Land Management.

The plat representing the dependent resurvey of a portion of the subdivisional lines, the subdivision of section 3 and the metes-and-bounds survey of Parcel Number 1, within section 3, and the metes-and bounds survey of lot 5, within section 3, Township 5 South, Range 9 East, accepted February 11, 2011, and officially filed February 16, 2011, for Group 1075, Arizona.

This plat was prepared at the request of the Bureau of Indian Affairs, Western Regional Office.

This plat representing the corrective resurvey of a portion of the metes-and-bounds survey of the Aravaipa Canyon Wilderness Area Boundary, in section 7, Township 6 South, Range 18 East, accepted March 30, 2011, and officially filed March 31, 2011, for Group 860, Arizona.

This plat was prepared at the request of the Bureau of Land Management.

This plat representing the supplemental plat of the W ½ of section 7, Township 23 South, range 21 East, accepted May 23, 2011, and officially filed May 25, 2011, for Group 9105, Arizona.

This plat was prepared at the request of the United States Forest Service.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Dated: June 22, 2011.
Danny A. West,
Chief Cadastral Surveyor of Arizona.

[FR Doc. 2011-16568 Filed 6-30-11; 8:45 am]

BILLING CODE 4310-32-P